INTERNATIONAL TRADE COMMISSION

[Investigation No. 337-TA-1103]

Certain Digital Video Receivers and Related Hardware and Software Components; Commission Decision To Institute a Rescission Proceeding; Rescission of a Limited Exclusion Order and Cease and Desist Orders; Termination of Rescission Proceeding

AGENCY: U.S. International Trade Commission.

ACTION: Notice.

SUMMARY: Notice is hereby given that the U.S. International Trade Commission (“Commission”) has determined to institute a rescission proceeding in the above-captioned investigation and to grant a joint motion for rescission of a limited exclusion order (“LEO”) and cease and desist orders (“CDOs”) previously issued in the investigation. The LEO and CDOs are rescinded, and the rescission proceeding is terminated.

FOR FURTHER INFORMATION CONTACT: Sidney A. Rosenzweig, Esq., Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 16, 2018, the Commission instituted this investigation based on a supplemented complaint filed on behalf of, inter alia, Rovi Corporation of San Jose, California; Rovi Guides, Inc. of San Jose, California; and Veveo, Inc. of Andover, Massachusetts (collectively, “Rovi”). The supplemented complaint alleged violations of section 337 of the Tariff Act of 1930, as amended, 19 U.S.C. 1337 (“section 337”), based upon the importation into the United States, the sale for importation, and the sale within the United States after importation of certain digital video receivers and related hardware and software components by reason of infringement of certain claims of, inter alia, U.S. Patent No. 7,779,011 (“the '011 patent”). 83 FR 11792 (Mar. 16, 2018). The Commission's notice of investigation named as respondents Comcast Corporation of Philadelphia, Pennsylvania; Comcast Cable Communications, LLC of Philadelphia, Pennsylvania; Comcast Cable Communications Management, LLC of Philadelphia, Pennsylvania; Comcast Business Communications, LLC of Philadelphia, Pennsylvania; Comcast Holdings Corporation of Philadelphia, Pennsylvania; and Comcast Shared Services, LLC of Chicago, Illinois (collectively, “Comcast”). Id. The Office of Unfair Import Investigations was also named as a party in this investigation. Id.

On April 23, 2020, the Commission terminated the investigation with a finding of violation of section 337 based on the infringement of claim 9 of the '011 patent. The Commission issued an LEO and six CDOs (one for each respondent).

On November 13, 2020, Rovi and Comcast jointly filed confidential and public versions of a petition to rescind the remedial orders based on a settlement agreement.

Having reviewed the petition and determined that it complies with Commission rules, see 19 CFR 210.76(a)(3), the Commission has determined to institute a rescission proceeding and to grant the petition. The LEO and the CDOs are hereby rescinded.

The rescission proceeding is terminated.

The Commission vote for this determination took place on November 19, 2020.

The authority for the Commission's determination is contained in section 337 of the Tariff Act of 1930, as amended (19 U.S.C. 1337), and in Part 210 of the Commission's Rules of Practice and Procedure (19 CFR part 210).

By order of the Commission.
Issued: November 19, 2020.
Lisa Barton,
Secretary to the Commission.

[FR Doc. 2020-25992 Filed 11-23-20; 8:45 am]

BILLING CODE 7020-02-P